DEPARTMENT OF THE TREASURY

Meeting of the Treasury Advisory Committee on Racial Equity

AGENCY: Department of the Treasury.

ACTION: Notice of meeting.

SUMMARY: The Department of the Treasury is hosting its Fiscal Year 2023 Quarter 3 meeting of the Treasury Advisory Committee on Racial Equity (“TACRE” or “Committee”). The Committee is composed of 25 members who will provide information, advice, and recommendations to the Department of the Treasury on matters relating to the advancement of racial equity. This notification provides the date, time, and location of the meeting and the process for participating and providing comments.

DATES: June 8, 2023, at 1-5 p.m. eastern time.

FOR FURTHER INFORMATION CONTACT: Snider Page, Designated Federal Official, Department of the Treasury, by emailing TACRE@Treasury.gov or by calling (202) 622-0341 (this is not a toll-free number). For persons who are deaf, hard of hearing, have a speech disability or difficulty speaking may dial 7-1-1 to access telecommunications relay services.

Check: https://home.treasury.gov/about/offices/equity-hub/TACRE for any updates to the June 8th meeting.

SUPPLEMENTARY INFORMATION: Pursuant to the Federal Advisory Committee Act (FACA) (5 U.S.C. 1001 et seq.), the Department has established the Treasury Advisory Committee on Racial Equity. The Department has determined that establishing this Committee was necessary and in the public interest in order to carry out the provisions of Executive Order 13985, Advancing Racial Equity and Support for Underserved Communities Throughout the Federal Government.

Background

Objectives and Duties

The purpose of the Committee is to provide advice and recommendations to Secretary of the Treasury Janet L. Yellen and Deputy Secretary Wally Adeyemo on efforts to advance racial equity in the economy and address acute disparities for communities of color. The Committee will identify, monitor, and review aspects of the domestic economy that have directly and indirectly resulted in unfavorable conditions for communities of color. The Committee plans to address topics including but not limited to: financial inclusion, access to capital, housing stability, federal supplies diversity, and economic development. The duties of the Committee shall be solely advisory and shall extend only to the submission of advice and recommendations to the Offices of the Secretary and Deputy Secretary, which shall be non-binding to the Department. No determination of fact or policy shall be made by the Committee.

The agenda for the meeting includes opening remarks from the Chair and Vice-Chair of TACRE; an overview of work conducted by the TACRE subcommittees since the March 9th TACRE meeting; briefings from government officials on the requirements to implement Executive Order 14091, Further Advancing Racial Equity and Support for Underserved Communities, and Treasury's report on the feasibility of implementing a Direct File requirement at the Internal Revenue Service; and a review, and possible discussion, of any comments received from the public. Meeting times and topics are subject to change.

Quarterly Periodic Meeting: In accordance with section 10(a)(2) of the FACA and implementing regulations at 41 CFR 102-3.150, Snider Page, the Designated Federal Officer of TACRE, has ordered publication of this notice to inform the public that the TACRE will convene its FY 2023 Quarter 3 meeting on Thursday, June 8, 2023, from 1 p.m.-5 p.m. eastern time, at the Department of the Treasury, 1500 Pennsylvania Ave. NW, Washington, DC 20220.

Process for Submitting Public Comments: Members of the public wishing to comment on the business of the TACRE are invited to submit written comments by emailing TACRE@Treasury.gov. Comments are requested no later than 15 calendar days before the public meeting in order to be considered by the Committee.

In general, the Department will post all comments received on its website https://home.treasury.gov/about/offices/equity-hub/TACRE without change, including any business or personal information provided such as names, addresses, email addresses, or telephone numbers. The Department will also make these comments available for public inspection and copying in the Department of the Treasury's Library, 720 Madison Place NW, Room 1020, Washington, DC 20220, on official business days between the hours of 10:00 a.m. and 5:00 p.m. Eastern Time. You can make an appointment to inspect statements by telephoning (202) 622-2000. All statements received, including attachments and other supporting materials, are part of the public record and subject to public disclosure. You should submit only information that you wish to make available publicly.

Process for Attending In-Person: Treasury is a secure facility, that requires all visitors to get cleared by security prior to arrival at the building. In addition, all visitors will be required to undergo COVID screening. The COVID screening will be a self-administered test provided by Treasury and visitors will have to wait for a negative result before proceeding to the meeting. Anyone testing positive will need to immediately leave the building. Please register for the Public Meeting by visiting: https://events.treasury.gov/s/event-template/a2m3d0000000fESAAY. The registration process will require submission of personally identifiable information, such as, full name, email address, date of birth, social security number, citizenship, residence, and if you have recently traveled outside of the United States.

Due to the limited size of the meeting room, public attendance will be limited to the first 20 people that complete the registration process. Members of the public will need to bring a government issued identification that matches the information provided during the registration process and present that to Security, for entry into the building. Please plan on arriving 30-45 minutes prior to the meeting to allow time for security and COVID screening. If you require reasonable accommodation, please contact the Departmental Offices Reasonable Accommodations Coordinator at ReasonableAccommodationRequests@treasury.gov. If requesting a sign language interpreter, please make sure your request to the Reasonable Accommodations Coordinator is made at least five (5) days prior to the event if at all possible.

Dated: May 4, 2023.
Snider Page,
Acting Chief, Office of Diversity, Equity, Inclusion and Accessibility and Designated Federal Officer.

[FR Doc. 2023-09892 Filed 5-9-23; 8:45 am]

BILLING CODE 4810-AK-P